DEPARTMENT OF TRANSPORTATION

Bureau of Transportation Statistics

Request for OMB Clearance of an Information Collection; Customer Satisfaction Surveys Program

AGENCY: Bureau of Transportation Statistics (BTS), DOT.

ACTION: Notice.

SUMMARY: In compliance with the Paperwork Reduction Act of 1995, Public Law 104-13, the Bureau of Transportation Statistics invites the general public, industry and other governmental parties to comment to the Office of Management and Budget (OMB) on continuing need for and usefulness of BTS” Customer Satisfaction Surveys. This collection request has been published in the Federal Register on March 31, 2004 on Page 17031 with a 60 day comment period ending May 30, 2004. The 60 day notice produced no comments. This collection is now being submitted to OMB for approval.

DATES: Written comments should be submitted by July 19, 2004.

ADDRESSES: You may submit a comment (identified by OMB Number 2139-0007) to the Office of Information and Regulatory Affairs, Office of Management and Budget, 725 17th Street, NW., Washington, DC 20503, Attention: BTS Desk Officer.

FOR FURTHER INFORMATION CONTACT: Ms. Lori Putman, Office of Survey Programs, K-23, Room 4432, Bureau of Transportation Statistics, 400 Seventh Street, SW., Washington, DC 20590-0001, (202) 366-5336.

SUPPLEMENTARY INFORMATION: OMB Approval No. 2139-0007.

Title: Customer Satisfaction Surveys.

Form No.: None.

Type Of Review: Renewal of a currently approved collection.

Respondents: U.S. Households.

Number of Respondents: 22,000.

Estimated Time per Response: 5-17 minutes.

Total Annual Burden: 8700 hours (estimate).

Needs and Uses: In 1993, Executive Order #12862 was implemented by the President to insure the highest quality service possible to the American people. Federal agencies are required to establish and implement customer service standards to guide the operations of the agency, to judge the performance of the agency, and to make appropriate resource allocations. To fulfill the requirements of this mandate, the Bureau of Transportation Statistics (BTS) immediately implemented plans and requirements for measuring customer satisfaction with BTS and Department of Transportation programs and services. As the statistical agency of the Department of Transportation, BTS is charged with fulfilling a wide variety of user needs. BTS has implemented a wide range of customer satisfaction surveys. The approaches include the Omnibus Survey Programs and the BTS Customer Satisfaction Survey, all of which are covered by this clearance request. Consistent with the requirements of Executive Order #12862, BTS plans to continue data collections at several levels to better assess and evaluate customer satisfaction within products, services, and overall performance of the agency over the next three years.

Description of Survey Topics: The Omnibus Surveys Program is comprised of several different surveys—A monthly Household Survey and periodic targeted surveys. The primary purpose of the Omnibus Household Survey are: (1) To determine the public's level of satisfaction with the nation's transportation system in light of the Department's strategic objectives, (2) to determine the public's satisfaction with the Department of Transportation products and services; and (3) to be a vehicle for the Operation Administrations within the Department of Transportation to survey the public about Administration-specific topics.

The Omnibus targeted surveys are designed on an “as needed” basis to address specific, emerging transportation issues. Although there is no schedule for such surveys, this submission requests clearance for a maximum of 8 targeted surveys per year. In the past, BTS has conducted such targeted surveys as the Mariner's Survey (which collects data about the Merchant Marines to be used in the event of a national emergency), the Highway User Survey (which collects data on highway usage) and the Bicycle/Pedestrian Survey (which collects data on bicycle usage and on walking as transportation). Data collection for targeted surveys may be one time only or recurring.

The BTS Customer Satisfaction Survey was implemented in 1998. The resulting data identified customers who are served by the Bureau of Transportation Statistics; determined the kind of quality of services they want; and measured their level of satisfaction with existing services. The surveys covered by this request do not duplicate information currently being collected by any other agency or component within the Department of Transportation. The information to be collected by these surveys is not currently available in any other format or from any other source or combination of sources.

Burden Statement: The total annual respondent burden estimate is 8,700 hours. The number of respondents and average burden hour per response will vary with each survey.

Issued in Washington, DC, on June 9, 2004.
Michael Cohen,
Assistant Director, Survey Programs, Bureau of Transportation Statistics.

[FR Doc. 04-13714 Filed 6-16-04; 8:45 am]

BILLING CODE 4910-HY-P